DEPARTMENT OF COMMERCE

National Oceanic and Atmospheric Administration

[RTID 0648-XB289]

Endangered and Threatened Species; Take of Anadromous Fish

AGENCY: National Marine Fisheries Service (NMFS), National Oceanic and Atmospheric Administration (NOAA), Commerce.

ACTION: Notice, Issuance of 14 Enhancement of Survival Permits.

SUMMARY: Notice is hereby given that NMFS has issued 14 enhancement of survival permits (Permit Numbers 23271, 23276, 23278, 23279, 23280, 23284, 23285, 23286, 23287, 23288, 23289, 23290, 23291, 23434) for enhancement and monitoring purposes associated with the Template Safe Harbor Agreement for Conservation of Coho Salmon in the Shasta River (Agreement) and associated Site Plans Agreements developed for the enrolled properties.

ADDRESSES: The Agreement, Site Plan Agreements, permits, and supporting documents are available upon written request or by appointment: California Coastal Office, NMFS WCR, 1655 Heindon Road, Arcata, California 95521, ph: 707-825-5171, fax: 707-825-4840.

FOR FURTHER INFORMATION CONTACT: Jim Simondet, Arcata, California (ph: 707-825-5171, email: jim.simondet@noaa.gov).

SUPPLEMENTARY INFORMATION: The issuance of permits under the Endangered Species Act of 1973 (ESA)(16 U.S.C. 1531-1543) is based on a finding that such permits: (1) Are applied for in good faith; (2) would not operate to the disadvantage of the ESA-listed species which are the subject of the permits; and (3) are consistent with the purposes and policies set forth in section 2 of the ESA. Authority to take listed species is subject to conditions set forth in the permits. Permits are issued in accordance with and are subject to the ESA and NMFS regulations (50 CFR parts 222-226) governing listed marine and anadromous species.

Species Covered in This Notice

The following listed species is covered in this notice:

Threatened Southern Oregon/Northern California Coast (SONCC) coho salmon (Oncorhynchus kisutch; covered species).

Permits Issued

Twelve permittees have been issued enhancement of survival permits upon entry into the Agreement, which was developed by NMFS, California Department of Fish and Wildlife (CDFW), the Shasta Watershed Conservation Group (SWCG), and the permittees (Table 1). The 12 permittees (Table 1) each developed site plan agreements for their respective properties (i.e., Enrolled Properties) that describe management activities that will be implemented, including Beneficial Management Activities (BMAs), as defined in the Agreement. The Site Plan Agreements, Agreement, and enhancement of survival permits are expected to promote the recovery of the covered species on enrolled properties within the Shasta River watershed in the Agreement area (see Figure 1 in the Agreement). The Shasta River is a tributary to the Klamath River and is in Siskiyou County, California. The duration of the Agreement and the associated enhancement of survival permits is 20 years.

Table 1—Permittee, Permit Number, and Enrolled Properties Affiliated With the Agreement
Permittee | Permit number | Enrolled property | Expiration date
Outpost North Annex | 23271 | Belcampo-North Annex Property, 8030 Siskiyou Blvd., Grenada, CA 96038 | February 24, 2041.
California Department of Fish and Wildlife | 23276 | Big Springs Ranch Wildlife Area, 41° 35′44.76 N 122°27′ 31.52 W | February 25, 2041.
Cardoza Ranch | 23278 | Cardoza Ranch, 3710 East Louie Road, Montague, CA 96064 | February 24, 2041.
Edson Foulke Ditch Company | 23279 | Edson-Foulke Point of Diversion, 41° 43′52.6 N 122°47′46.8 W | February 24, 2041
Grenada Irrigation District | 23280 | Grenada Irrigation District Point of Diversion 41° 38′ 11.56′ N 122° 29′ 22.88 W | February 24, 2041.
2019 Lowell L. Novy Revocable Trust | 23284 | Grenada-Novy Ranch, Gazelle—19931 Old Hwy 99 S, Gazelle, CA 96034, Grenada—2426 County Hwy A-12, Grenada, CA 96034 | February 24, 2041.
Hidden Valley Ranch | 23285 | Hidden Valley Ranch, 13521 Big Springs Road, Montague, CA 96064 | February 24, 2041.
Emmerson Investments, Inc | 23286 | Hole-in-the-Ground Ranch, 11825 Big Springs Road, Montague, CA 96064 | February 24, 2041.
Montague Water Conservation District | 23287 | Montague Water Conservation District, N. 52°, 43′ E., approximately 2601 feet from SW corner of Section 25, T43N, R5W, MDB&M, being within the NE¼ of SW¼ of said Section 25 | February 24, 2041.
Outpost Mole Richardson | 23288 | Parks Creek Ranch, 25801 Old Hwy 99, Weed, CA 96094 | February 24, 2041.
Rice Livestock Company | 23289 | Rice Livestock Company, 1730 County Highway A12, Montague, CA | February 24, 2041.
Emmerson Investments, Inc | 23290 | Seldom Seen Ranch, 41° 54′ 63.2 N 122° 38′ 35.7 W | February 24, 2041.
Emmerson Investments, Inc | 23291 | Shasta Springs Ranch, 21305 Slough Road, Weed, CA 96094 | February 25, 2041.
NB Ranches, Inc | 23434 | Nicoletti Ranch, 1824 DeSouza Lane, Montague, CA and 2238 DeSouza Lane, Montague, CA | February 24, 2041.

The enhancement of survival permits authorize the incidental taking of the covered species associated with routine agricultural activities, implementation of BMAs, and the potential future return of the enrolled property to the baseline or elevated baseline conditions identified in the respective Site Plan Agreement. Under the enhancement of survival permits, Site Plan Agreements, and Agreement, the permittees specify the restoration and/or enhancement, and management activities to be carried out on the enrolled properties and a timetable for implementing those activities. NMFS prepared a biological opinion under section 7(a)(2) of the ESA to determine whether NMFS' actions of entering into the Agreement and the 14 associated Site Plan Agreements, and issuing the 14 section 10(a)(1)(A) enhancement of survival permits, would result in jeopardy to the covered species or destroy or adversely modify their designated critical habitat. NMFS determined that these actions would not result in jeopardy or destruction or adverse modification of designated critical habitat. NMFS also determined that the Agreement and Site Plan Agreements will result in a net conservation benefit for the covered species and meet all required standards of NMFS' Safe Harbor Policy (64 FR 32717; June 17, 1999). The Agreement and Site Plan Agreements specify baseline or elevated baseline conditions for the enrolled properties and include restoration/enhancement activities that will be completed by the permittee to achieve the specified conditions. The Agreement also contains a monitoring component and an Adaptive Management Program that requires the permittees to ensure compliance with the terms and conditions of the Agreement, and to ensure that the baseline or elevated baseline conditions of habitat for the covered species occur on the enrolled properties. Results of the monitoring efforts will be provided to NMFS by the permittees in annual reports for the duration of the 20-year permit term. In addition to reviewing annual reports submitted by SWCG, NMFS, and CDFW will conduct a five-year review to assess the effectiveness of the Agreement.

At the end of the permit term and Agreement, the enhancement of survival permits authorize the permittees to incidentally take covered species associated with a return to baseline or elevated baseline conditions if desired and in compliance with the terms and conditions of the permits.

Dated: August 3, 2021.
Angela Somma,
Chief, Endangered Species Division, Office of Protected Resources, National Marine Fisheries Service.

[FR Doc. 2021-16986 Filed 8-9-21; 8:45 am]

BILLING CODE 3510-22-P